ENVIRONMENTAL PROTECTION AGENCY

[EPA-HQ-OAR-2008-0699; FRL-9905-99-OAR]

Release of Draft Documents Related to the Review of the National Ambient Air Quality Standards for Ozone

AGENCY: Environmental Protection Agency (EPA).

ACTION: Notice of availability and public comment period.

SUMMARY: On or about January 31, 2014, the Office of Air Quality Planning and Standards (OAQPS) will make available for public comment three draft documents prepared as part of the current review of the national ambient air quality standards (NAAQS) for Ozone (O3). Two are draft risk and exposure assessment documents: Health Risk and Exposure Assessment for Ozone, Second External Review Draft and Welfare Risk and Exposure Assessment for Ozone, Second External Review Draft, and the third is the draft policy assessment document: Policy Assessment for the Review of the Ozone National Ambient Air Quality Standards, Second External Review Draft.

DATES: Comments on all documents should be submitted on or before March 24, 2014.

ADDRESSES: This document is available primarily via the Internet at the following Web site: http://www.epa.gov/ttn/naaqs/standards/ozone/s_o3_index.html.

Submit your comments, identified by Docket ID No. EPA-HQ-OAR-2008-0699, by one of the following methods:

• www.regulations.gov: Follow the on-line instructions for submitting comments.

• Email: Comments may be sent by electronic mail (email) to a-and-r-docket@epa.gov, Attention Docket ID No. EPA-HQ-OAR-2008-0699.

• Fax: Fax your comments to 202-566-9744, Attention Docket ID. No. EPA-HQ-OAR-2008-0699.

• Mail: Send your comments to: Air and Radiation Docket and Information Center, Environmental Protection Agency, Mailcode: 2822T, 1200 Pennsylvania Ave. NW., Washington, DC 20460, Attention Docket ID No. EPA-HQ-OAR-2008-0699. Please include a total of two copies.

• Hand Delivery or Courier: EPA Docket Center, 1301 Constitution Ave. NW., Room 3334, Washington, DC. Such deliveries are only accepted during the Docket's normal hours of operation, and special arrangements should be made for deliveries of boxed information.

Instructions: Direct your comments to Docket ID No. EPA-HQ-OAR-2008-0699. The Environmental Protection Agency (EPA)'s policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be captured automatically and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at: http://www.epa.gov/dockets/.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket Information Center, EPA/DC, William Jefferson Clinton Building, Room 3334, 1301 Constitution Ave. NW., Washington, DC. The Public Reading Room is open from 8:30 a.m. to 4:30 p.m., Monday through Friday, excluding legal holidays. The telephone number for the Public reading Room is (202) 566-1744, and the telephone for the Air and Radiation Docket and Information Center is (202) 566-1742; fax (202) 566-9744.

FOR FURTHER INFORMATION CONTACT: For questions related to the draft document titled, Health Risk and Exposure Assessment for Ozone, Second External Review Draft (EPA-452/P-14-004a; January 2014), please contact Dr. Bryan Hubbell, Office of Air Quality Planning and Standards (Mail code C539-07), U.S. Environmental Protection Agency, Research Triangle Park, NC 27711; email: hubbell.bryan@epa.gov; telephone: (919) 541-3515; fax: (919) 541-5315.

For questions related to the draft document titled, Welfare Risk and Exposure Assessment for Ozone, Second External Review Draft (EPA-452/P-14-003a; January 2014), please contact Dr. Travis Smith, Office of Air Quality Planning and Standards (Mail code C539-07), U.S. Environmental Protection Agency, Research Triangle Park, NC 27711; email: smith.jtravis@epa.gov; telephone: (919) 541-2035; fax: (919) 541-5315.

For questions related to the draft document titled, Policy Assessment for the Review of the Ozone National Ambient Air Quality Standards, Second External Review Draft (EPA-452/P-14-002; January 2014), please contact Ms. Susan Lyon Stone, Office of Air Quality Planning and Standards (Mail code C504-06), U.S. Environmental Protection Agency, Research Triangle Park, NC 27711; email: stone.susan@epa.gov; telephone: (919) 541-1146; fax: (919) 541-0237.

SUPPLEMENTARY INFORMATION:

I. General Information

A. What should I consider as I prepare my comments for the EPA?

1. Submitting CBI. Do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Information Specific to These Documents

Two sections of the Clean Air Act (Act) govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which * * * [the Administrator] plans to issue air quality criteria * * *”. Air quality criteria are intended to “accurately reflect the latest scientific knowledge useful in indicating the kind and extent of all identifiable effects on public health or welfare which may be expected from the presence of [a] pollutant in the ambient air * * *” 42 U.S.C. 7408(b). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and, if appropriate, revise the NAAQS, based on the revised air quality criteria. Section 109(d)(2) requires that an independent scientific review committee “shall complete a review of the criteria * * * and the national primary and secondary ambient air quality standards * * * and shall recommend to the Administrator any new * * * standards and revisions of existing criteria and standards as may be appropriate * * *.” Since the early 1980's, this independent review function has been performed by the Clean Air Scientific Advisory Committee (CASAC).

Presently, the EPA is reviewing the NAAQS for O3. The EPA's overall plan for this review is presented in the Integrated Review Plan for the Ozone National Ambient Air Quality Standards.¹ As part of the EPA's review of the primary and secondary O3 NAAQS,² the Agency has conducted quantitative assessments characterizing the: (1) Health risks associated with exposure to ambient O3; (2) welfare risks associated with exposure to ambient O3; and, (3) associated ambient air quality analyses. On or about January 31, 2014, the EPA is making available for public comment two draft assessment documents titled, Health Risk and Exposure Assessment for Ozone, Second External Review Draft and Welfare Risk and Exposure Assessment for Ozone, Second External Review Draft. These documents revise the first draft Health Risk and Exposure Assessment (EPA-452/P-12-001; July 2012) and first draft Welfare Risk and Exposure Assessment (EPA-452/P-12-004; July 2012), respectively.³ The draft assessment documents announced today convey the approaches taken to assess exposures to ambient O3 and to characterize associated health and welfare risks, as well as present the key results, observations, and related uncertainties associated with the quantitative analyses performed. These draft assessments may be accessed online through the EPA's Technology Transfer Network (TTN) Web site at http://www.epa.gov/ttn/naaqs/standards/ozone/s_o3_index.html.

¹ EPA 452/R-11-006; April 2011; Available: http://www.epa.gov/ttn/naaqs/standards/ozone/data/2011_04_OzoneIRP.pdf.

² See http://www.epa.gov/ttn/naaqs/review.html for more information on the NAAQS review process.

³ These documents were the subject of a review by the CASAC in September 2012; 77 FR 46755, August 6, 2012.

In addition, on or about January 31, 2014, the EPA will make available the draft document titled, Policy Assessment for the Review of the Ozone National Ambient Air Quality Standards, Second External Review Draft. This document will serve to “bridge the gap” between the scientific information and the judgments required of the Administrator in determining whether to retain or revise the existing NAAQS for (O3), and, if revision is considered, what revisions may be appropriate. This document revises the first draft Policy Assessment (EPA-452/P-12-004; July 2012).⁴ The Policy Assessment builds upon information presented in the Integrated Science Assessment of Ozone and Related Photochemical Oxidants (Final Report) ⁵ and the two draft assessment documents announced today and described above. The second draft Policy Assessment may be accessed online through the EPA's TTN Web site at: http://www.epa.gov/ttn/naaqs/standards/ozone/s_o3_index.html.

⁴ This document was the subject of a review by CASAC in September 2012; 77 FR 46755, August 6, 2012.

⁵ U.S. EPA. Integrated Science Assessment of Ozone and Related Photochemical Oxidants (Final Report). U.S. Environmental Protection Agency, Washington, DC, EPA/600/R-10/076F, 2013; Available: http://cfpub.epa.gov/ncea/isa/recordisplay.cfm?deid=247492#Download.

The EPA is soliciting advice and recommendations from the CASAC by means of a review of these draft documents at an upcoming public meeting of the CASAC. Information about these public meetings, including the dates and locations, will be published as a separate notice in the Federal Register. Following the CASAC meeting, the EPA will consider comments received from the CASAC and the public in preparing revisions to these documents. The EPA will consider public comments submitted in response to this notice when revising the documents. The documents that are the subject of today's notice do not represent and should not be construed to represent any final EPA policy, viewpoint or determination.

Dated: January 22, 2014.
Mary E. Henigin,
Acting Director, Office of Air Quality Planning and Standards.

[FR Doc. 2014-01721 Filed 1-28-14; 8:45 am]

BILLING CODE 6560-50-P